DEPARTMENT OF HEALTH AND HUMAN SERVICES

Food and Drug Administration

[Docket No. FDA-2019-N-1346]

Development of Antiviral Drugs for the Treatment of Adenoviral Infection in Immunocompromised Patients; Public Workshop; Cancellation

AGENCY: Food and Drug Administration, HHS.

ACTION: Notice.

SUMMARY: The Food and Drug Administration is announcing the cancellation of a public workshop entitled “Development of Antiviral Drugs for the Treatment of Adenoviral Infection in Immunocompromised Patients” that was previously scheduled for August 8, 2019, from 8:30 a.m. to 4:30 p.m. This public workshop was announced in the Federal Register of May 2, 2019. The meeting has been cancelled due to unforeseen changes in the adenovirus drug development landscape.

FOR FURTHER INFORMATION CONTACT: Lori Benner and/or Jessica Barnes, Center for Drug Evaluation and Research, Food and Drug Administration, 10903 New Hampshire Ave., Bldg. 22, Rm. 6221, Silver Spring, MD 20993-0002, 301-796-1300, about this public workshop, which was announced in the Federal Register of May 2, 2019 (84 FR 18848).

Dated: July 8, 2019.
Lowell J. Schiller,
Principal Associate Commissioner for Policy.

[FR Doc. 2019-14887 Filed 7-11-19; 8:45 am]

BILLING CODE 4164-01-P